DEPARTMENT OF LABOR

Employment and Training Administration

[TA-W-71,602]

Cooper Tools—Sumter, Cooper Tools Divisions, a Subsidiary of Cooper Industries, Inc., Including On-Site Leased Workers From Thompson Industrial, Sumter, SC; Amended Certification Regarding Eligibility To Apply for Worker Adjustment Assistance

In accordance with Section 223 of the Trade Act of 1974, as amended (“Act”), 19 U.S.C. 2273, the Department of Labor issued a Certification of Eligibility to Apply for Worker Adjustment Assistance on January 26, 2010, applicable to workers of Cooper Tools—Sumter, Cooper Tools Division, a subsidiary of Cooper Industries, Inc., including on-site leased workers from Thompson Industrial, Sumter, South Carolina. The notice will be published soon in the Federal Register.

At the request of the State Agency, the Department reviewed the certification for workers of the subject firm. The workers are engaged in the production of adjustable wrenches, pliers, farrier tools, aviation snips, bolt cutters, cable cutters, screwdrivers and nut drivers.

The review shows that on August 30, 2006, a certification of eligibility to apply for adjustment assistance was issued for all workers of Cooper Tools, Inc., a division of Cooper Industries, Ltd, Sumter, South Carolina, separated from employment on or after August 5, 2005 through August 30, 2008. The notice was published in the Federal Register on September 21, 2006 (71 FR 55216).

In order to avoid an overlap in worker group coverage, the Department is amending the July 7, 2008 impact date established for TA-W-71,602, to read August 31, 2008.

The amended notice applicable to TA-W-72,314 is hereby issued as follows:

All workers of Cooper Tools—Sumter, Cooper Tools Division, a subsidiary of Cooper Industries, Inc., including on-site leased workers from Thompson Industrial, Sumter, South Carolina, who became totally or partially separated from employment on or after August 31, 2008, through January 26, 2012, and all workers in the group threatened with total or partial separation from employment on date of certification through two years from the date of certification, are eligible to apply for adjustment assistance under Chapter 2 of Title II of the Trade Act of 1974, as amended.

Signed in Washington, DC, this 23rd day of February 2010.
Del Min Amy Chen,
Certifying Officer, Division of Trade Adjustment Assistance.

[FR Doc. 2010-4574 Filed 3-4-10; 8:45 am]

BILLING CODE 4510-FN-P